DEPARTMENT OF COMMERCE

National Oceanic and Atmospheric Administration

50 CFR Part 648

[Docket No. 0907301206-0032-02]

RIN 0648-XW95

Fisheries of the Northeastern United States; Atlantic Mackerel, Squid, and Butterfish Fisheries; Adjustment to the Loligo Trimester 2 and 3 Quota; Correction

AGENCY: National Marine Fisheries Service (NMFS), National Oceanic and Atmospheric Administration (NOAA), Commerce.

ACTION: Temporary rule; correction.

SUMMARY: NMFS is correcting a temporary rule to adjust the 2010 fishing year (FY) Trimester 2 and 3 Loligo squid quotas. The rule contained a numerical error in the metric value of the revised Trimester 3 quota. The correct value for the revised Trimester 3 quota of 23,743,619 lb is 10,770 mt.

DATES: Effective June 30, 2010, through December 31, 2010.

FOR FURTHER INFORMATION CONTACT: Lindsey Feldman, Fishery Management Specialist, (978) 675-2179, fax (978) 281-9135.

SUPPLEMENTARY INFORMATION: On June 30, 2010 (75 FR 37739), a temporary rule was published adjusting the FY 2010 Trimester 2 and 3 Loligo squid quotas. The temporary rule correctly revised the Trimester 3 quota from the initial quota of 16,461,920 lb (7,467 mt) to a new quota of 23,743,619 lb, but erroneously specified the metric equivalent as 13,770 mt. The corrected metric equivalent is 10,770 mt.

Correction

In rule FR Doc. 2010-15933 published on June 30, 2010, (75 FR 37739) make the following correction. On page 37739, in the third column, correct “(13,770 mt)” to read “(10,770 mt)”.

Authority: 16 U.S.C. 1801 et seq.

Dated: July 20, 2010
Carrie Selberg,
Acting Director, Office of Sustainable Fisheries, National Marine Fisheries Services.

[FR Doc. 2010-18131 Filed 7-22-10; 8:45 am]

BILLING CODE 3510-22-S